DEPARTMENT OF THE INTERIOR

Bureau of Land Management

[LVCLB09B3610—CACA 050831]

Notice of Realty Action: Application for Conveyance of Federally-owned Mineral Interests, Monterey County, CA

AGENCY: Bureau of Land Management, Interior.

ACTION: Notice of realty action.

SUMMARY: An application was filed on May 6, 2009, for the conveyance of the federally-owned mineral interests in the 10-acre tract of land described in this notice. Publication of this notice temporarily segregates the mineral interests in the land covered by the application from appropriation under the mining and mineral leasing laws while the application is being processed.

DATES: Interested persons may submit written comments to the Bureau of Land Management (BLM) at the address listed below. Comments must be received no later than February 19, 2010.

ADDRESSES: Bureau of Land Management, California State Office, 2800 Cottage Way, Sacramento, California 95825. Detailed information concerning this action is available for review at this address.

FOR FURTHER INFORMATION CONTACT: Liz Easley, BLM, at the above address or at (916) 978-4673.

SUPPLEMENTARY INFORMATION: The tract of land referred to in this notice consists of 10 acres of land situated in Monterey County, and is described as follows:

Mount Diablo Meridian, California

Parcel I:

Certain real property situated in Section 19 of Township 18 South, Range 1 East, Mount Diablo Meridian, according to the official plat thereof, in the County of Monterey, State of California, described as follows:

Beginning at a point of curvature of the westerly line of State Highway VMON-56-G (state sign Route No. 1 from which point Engineers Station 89 plus 83.68 of the centerline survey of said highway bears S. 75°17′ 40.00 feet, said Engineer's Station being the southerly terminus of that certain course stated as “N. 14°43′ E., 87.76 feet” in deed from Mary C. Brazil, et al. to the State of California, dated June 6, 1932 and recorded in Volume 341 of the official records of Monterey County at Page 1; thence

(1) N. 14°43′ E. Along the westerly line of said state highway as conveyed by said deed, 87.76 feet; thence

(2) Northerly and northwesterly, curving to the left on a circular curve of 160 feet radius, through a central angle of 81°24′, for an arc distance of 296.86 feet; thence, leaving said line of said highway as conveyed by said deed

(3) S. 5°06′ W., 168.71 feet, to a 1″ iron pipe; thence

(4) S. 42°06′ W., 350.00 feet, to a 1″ iron pipe; thence

(5) S. 71°00′ W., 150.00 feet, to a 1″ iron pipe; thence

(6) N. 73°00′ W., 300 feet, more or less, to the shoreline of the Pacific Ocean; thence

(7) South along the shoreline of the Pacific Ocean, 600 feet, more or less, to intersection with a line drawn S. 48°00′ W., from Engineers Station 88 plus 99.83 of the centerline survey of said highway; thence, leaving said shoreline

(8) N. 48°00′ E., along said line so drawn, 700 feet, more or less, to the westerly line of said highway as conveyed by said deed; thence

(9) Northerly along said westerly line of said highway, along a curve to the right of radius 290 feet, for a distance of 130 feet more or less, to the point of beginning, and being a portion of parcel 1 and 2 as described in that certain deed from William Boggess, et ux to Ralph Downs, et ux, dated October 23, 1963 and recorded November 5, 1963 in reel 248 of the official records of Monterey County at Page 17.

Excepting therefrom all oils and other minerals as reserved in the patent from the United States to Leroy Dye, dated October 1, 1936 and recorded November 18, 1939 in Volume 640 of the official records of Monterey County at Page 412.

Also excepting the interest conveyed to the State of California by deed recorded March 24, 1939 in Book 611, Page 115, of the official records of Monterey County.

Parcel II:

A right of way for road purposes over a strip of land 15 feet wide lying 7.50 feet on each side of the following described centerline:

Beginning at a point on course numbered four (4) of the boundary of the above described Parcel I, distant N. 42°06′ E., along said course four (4) a distance of 38 feet from the southwesterly terminus thereof; thence

(1) S. 77°00′ W., 59.3 feet; thence

(2) N. 42°00′ W., 125.4 feet; thence

(3) North, 54.00 feet; thence

(4) Northerly and northeasterly along a tangent curve to the right of 60 feet radius through a central angle of 122°, for an arc distance of 127.76 feet; thence

(5) Easterly, northerly and westerly along a tangent curve a radius of 30 feet, through a central angle of 141°, for an arc distance of 73.83 feet; thence

(6) West, northerly and easterly along a tangent reverse curve a radius of 20 feet, through a central angle of 170°, for an arc distance of 59.34 feet; thence tangentially

(7) N. 73°00′ E., 102.00 feet; thence

(8) Easterly, northerly and westerly along a tangent curve to the left of radius 25 feet, through a central angle of 189° for an arc distance of 82.47 feet thence

(9) Westerly, northerly and easterly along a tangent reverse curve of radius 20 feet, through a central angle of 194½°, for an arc distance of 67.89 feet; thence tangentially

(10) N. 78°30′ E., 115.4 feet, to the southerly line of said highway at a point distance n. 84°54′ W., 4162 feet from a point of curvature of said southerly line which lines S. 5°06′ W., 40.00 feet from Engineer's Station 94 plus 35.36—94 plus 24.34 of the centerline survey of said highway.

The applicant is the owner of the “non-mineral” interest (also called the “surface” interest). Under certain conditions, Section 209(b) of the Federal Land Policy and Management Act of October 21, 1976, 43 U.S.C. 1719 (FLPMA) authorizes the sale and conveyance of the federally-owned mineral interests in land to the existing or prospective owner of the surface when the surface interest is not federally-owned. The objective is to allow consolidation of the surface and mineral interests when either one of the following conditions exist: (1) There are no known mineral values in the land; or (2) where continued Federal ownership of the mineral interests interferes with or precludes appropriate non-mineral development and such development is a more beneficial use of the land than mineral development.

An application was filed for the sale and conveyance of the federally-owned mineral interests in the above-described tract of land. Subject to valid existing rights, on January 5, 2010 the federally-owned mineral interests in the lands described above are hereby segregated from appropriation under the general mining and mineral leasing laws, while the application is being processed to determine if either one of the two specified conditions exists and, if so, to otherwise comply with the procedural requirements of 43 CFR part 2720 and Section 209 of FLPMA. The segregative effect shall terminate: (i) Upon issuance of a patent or other document of conveyance as to such mineral interests; (ii) upon final rejection of the application; or (iii) two years (May 5, 2011) from the date of filing of the application, whichever occurs first.

(Authority: 43 CFR 2720.1-1(b)

Comments: Your comments are invited. Please submit all comments in writing to Liz Easley at the address listed above. Before including your address, phone number, e-mail address, or other personal identifying information in your comment, you should be aware that your entire comment—including your personal identifying information—may be made publicly available at any time. While you can ask us in your comment to withhold your personal identifying information from public review, we cannot guarantee that we will be able to do so.

(Authority: 43 CFR 2720.1-1(b))

Thomas Pogacnik,
Deputy State Director of Natural Resources.

[FR Doc. E9-31238 Filed 1-4-10; 8:45 am]

BILLING CODE 4310-40-P